DEPARTMENT OF STATE

[Public Notice 7170]

Shipping Coordinating Committee; Notice of Subcommittee Meeting

The Shipping Coordinating Committee (SHC) will conduct an open meeting at 1 p.m. on Tuesday, December 7, 2010, in Conference Room 5-1224 of the United States Coast Guard Headquarters Building, 2100 Second Street, SW., Washington, DC 20593-0001. The primary purpose of the meeting is to prepare for the fifty-third Session of the International Maritime Organization (IMO) Subcommittee on Stability and Load Lines and on Fishing Vessels Safety (SLF) to be held at the IMO Headquarters, United Kingdom, from January 10 to January 14, 2011.

The primary matters to be considered include:

—Adoption of the agenda.

—Decisions of other IMO bodies.

—Development of new generation intact stability criteria.

—Guidelines to enhance the safety of small fishing vessels.

—Guidelines to improve the effect of the 1969 Tonnage Measurement Convention on ship design and safety.

—Standards on time-dependent survivability of passenger ships in damaged condition.

—Stability and sea-keeping characteristics of damaged passenger ships in a seaway when returning to port under own power or under tow.

—Guidelines for verification of damage stability requirements for tankers and bulk carriers.

—Safety provisions applicable to tenders operating from passenger ships.

—Review of damage stability regulations for ro-ro passenger ships.

—Legal and technical options to facilitate and expedite the earliest possible entry into force of the 1993 Torremolinos Protocol.

—Amendments to SOLAS chapter II-1 subdivision standards for cargo ships.

—Amendments to the 1966 Load Line Convention and the 1988 Load Line Protocol related to seasonal zones.

—Revision of SOLAS chapter II-1 subdivision and damage stability regulations.

—Consideration of IACS unified interpretations.

—Biennial agenda and provisional agenda for SLF 54.

—Election of Chairman and Vice-Chairman for 2012.

—Any other business.

—Report to the Maritime Safety Committee.

Members of the public may attend this meeting up to the seating capacity of the room. To facilitate the building security process and to request reasonable accommodation, those who plan to attend should contact the meeting coordinator, LCDR Tracy Phillips, by e-mail at Tracy.Phillips@uscg.mil, by phone at (202) 372-1373, by fax at (202) 372-1925, or in writing at Commandant (CG-5212), U.S. Coast Guard, 2100 2nd Street, SW., Stop 7126, Washington, DC 20593-7126 not later than 72 hours before the meeting. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/hq/cg5/imo.

Dated: October 19, 2010.
Jon Trent Warner,
Executive Secretary, Shipping Coordinating Committee, Department of State.

[FR Doc. 2010-26888 Filed 10-22-10; 8:45 am]

BILLING CODE 4710-09-P